SMALL BUSINESS ADMINISTRATION

[Disaster Declaration #17487 and #17488; NEW MEXICO Disaster Number NM-00081]

Presidential Declaration Amendment of a Major Disaster for Public Assistance Only for the State of New Mexico

AGENCY: U.S. Small Business Administration.

ACTION: Amendment 3.

SUMMARY: This is an amendment of the Presidential declaration of a major disaster for Public Assistance Only for the State of New Mexico (FEMA-4652-DR), dated 06/08/2022.

Incident: Wildfires, Straight-line Winds, Flooding, Mudflows, and Debris Flows directly related to the Wildfires.

Incident Period: 04/05/2022 through 07/23/2022.

DATES: Issued on 10/04/2022.

Physical Loan Application Deadline Date: Filing period for county listed below ends on 11/03/2022. Filing Period for the previously declared counties ended on 08/08/2022.

Economic Injury (EIDL) Loan Application Deadline Date: 03/08/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of New Mexico, dated 06/08/2022, is hereby amended to include the county listed below. Please contact the SBA disaster assistance customer service center by email at disastercustomerservice@sba.gov or by phone at 1-800-659-2955 to request an application. Applications for physical damages for previously declared counties ended on 08/08/2022. Applications for physical damages for the county listed below may be filed until 11/03/2022. Applications for economic injury may be filed until 03/08/2023.

Primary Counties: Lincoln.

All other information in the original declaration remains unchanged.

(Catalog of Federal Domestic Assistance Number 59008.)

Rafaela Monchek,
Acting Associate Administrator for Disaster Assistance.

[FR Doc. 2022-22250 Filed 10-12-22; 8:45 am]

BILLING CODE 8026-09-P